DEPARTMENT OF HEALTH AND HUMAN SERVICES

Centers for Disease Control and Prevention

Office for State, Tribal, Local and Territorial Support (OSTLTS) Meeting

In accordance with Presidential Executive Order No. 13175, November 6, 2000, and the Presidential Memorandum of November 5, 2009, and September 23, 2004, Consultation and Coordination with Indian Tribal Governments, CDC/Agency for Toxic Substances and Disease Registry (ATSDR), announces the following meeting and Tribal Consultation Session:

Name: Tribal Advisory Committee (TAC) Meeting and 12th Biannual Tribal Consultation Session

Times and Dates:

8:00 a.m.-5:00 p.m., February 10, 2015 (TAC Meeting)

8:00 a.m.-5:00 p.m., February 11, 2015 (12th Biannual Tribal Consultation Session)

Place: The TAC Meeting and Tribal Consultation Session will be held at CDC Headquarters, 1600 Clifton Road, NE., Global Communications Center, Auditorium B3, Atlanta, Georgia 30333.

Status: The meetings are being hosted by CDC/ATSDR in-person only and are open to the public. Attendees must pre-register for the event by Friday, January 23, 2015, at the following link: http://www.cdc.gov/tribal/meetings.html.

Purpose: The purpose of these recurring meetings is to advance CDC/ATSDR support for and collaboration with tribes, and to improve the health of tribes through, including but not limited to, assisting in eliminating the health disparities faced by Indian Tribes, ensuring that access to critical health and human services and public health services is maximized to advance or enhance the social, physical, and economic status of Indians; and promoting health equity for all Indian people and communities. To advance these goals, CDC/ATSDR conducts government-to-government consultations with elected tribal officials or their authorized representatives. Consultation is an enhanced form of communication that emphasizes trust, respect, and shared responsibility. It is an open and free exchange of information and opinion among parties that leads to mutual understanding and comprehension.

Matters for Discussion: The TAC and CDC leaders will discuss the following public health issue topics: Native specimens, injury prevention and occupational safety, hepatitis C virus, tuberculosis, and communication and engagement with tribes; however, discussion is not limited to these topics.

During the 12th Biannual Tribal Consultation Session, tribes and CDC leaders will engage in a listening session with CDC's director and roundtable discussions with CDC senior leaders, and tribes will have an opportunity to present testimony on tribal health issues.

Tribal leaders are encouraged to submit written testimony by January 23, 2015, to April R. Taylor, Public Health Analyst for the Tribal Support Unit, OSTLTS, via mail to 4770 Buford Highway NE., MS E-70, Atlanta, Georgia 30341 or email to TribalSupport@cdc.gov.

Depending on the time available, it may be necessary to limit the time of each presenter.

The agenda is subject to change as priorities dictate.

Information about the TAC, CDC's Tribal Consultation Policy, and previous meetings can be found at the following web link: http://www.cdc.gov/tribal.

Contact person for more information: April R. Taylor, Public Health Analyst, CDC/OSTLTS, 4770 Buford Highway NE., MS E-70, Atlanta, Georgia 30341; email: ARTaylor@cdc.gov.

The Director, Management Analysis and Services Office, has been delegated the authority to sign Federal Register notices pertaining to announcements of meetings and other committee management activities, for both the Centers for Disease Control and Prevention, and the Agency for Toxic Substances and Disease Registry.

Elaine L. Baker,
Director, Management Analysis and Services Office, Centers for Disease Control and Prevention.

[FR Doc. 2014-29489 Filed 12-16-14; 8:45 am]

BILLING CODE 4163-18-P